FEDERAL COMMUNICATIONS COMMISSION

Privacy Act of 1974; System of Records

AGENCY: Federal Communications Commission.

ACTION: Notice of a modified System of Records.

SUMMARY: The Federal Communications Commission (FCC, Commission, or Agency) has modified an existing system of records, FCC/OMD-12, Integrated Library System (ILS) Records, subject to the Privacy Act of 1974, as amended. This action is necessary to meet the requirements of the Privacy Act to publish in the Federal Register notice of the existence and character of records maintained by the Agency. The FCC's Office of the Secretary (OS) in the Office of Managing Director (OMD) uses the records in OMD-12 to keep track of items borrowed by registered users from the FCC Library's collection and to ensure that all items are returned to the FCC Library in a timely manner and/or upon a FCC employee's resignation from the Commission.

DATES: This action will become effective on May 1, 2019. Written comments on the system's routine uses are due by May 31, 2019. The routine uses in this action will become effective on May 31, 2019 unless written comments are received that require a contrary determination.

ADDRESSES: Send comments to Leslie F. Smith, Privacy Manager, Information Technology (IT), Room 1-C216, Federal Communications Commission, 445 12th Street SW, Washington, DC 20554, or via the internet at Leslie.Smith@fcc.gov.

FOR FURTHER INFORMATION CONTACT: Leslie F. Smith (202) 418-0217, or Leslie.Smith@fcc.gov (and to obtain a copy of the Narrative Statement and the Supplementary Documentation, which includes details of the modifications to this system of records).

SUPPLEMENTARY INFORMATION: This notice serves to update and modify FCC/OMD-12 as a result of the various necessary changes and updates, including more advanced electronic information technologies, i.e., cloud technology, and format changes required by OMB Circular A-108, since its previous publication. The substantive changes and modifications to the previously published version of the FCC/OMD-12 system of records include:

1. Updating the language in the Security Classification to follow OMB guidance.

2. Making minor changes to the language in the Categories of Records to be consistent with the language and phrasing now used in the FCC's SORNs.

3. Updating and/or revising language in four routine uses: (1) Adjudication and Litigation; (2) Law Enforcement and Investigation; (3) Congressional Inquiries; and (4) Government-wide Program Management and Oversight.

4. Adding four new routine uses: (5) For Non-Federal Personnel to allow contractors performing or working on a contract for the Federal Government access to information; (6) Breach Notification to address real or suspected data breach situations at the FCC; (7) Assistance to Federal Agencies and Entities for assistance with other Federal agencies' data breach situations; and (8) Recovering Overdue Library Materials to allow FCC managers or supervisors to facilitate the recovery of overdue books or other loaned library materials recalled due to emergencies. Routine Uses (6) and (7) are required by OMB Memorandum M-17-12.

5. Adding two new sections: Reporting to a Consumer Reporting Agency to address valid and overdue debts owed by individuals to the FCC under the Debt Collection Act, as recommended by OMB; and a History section referencing the previous publication of this SORN in the Federal Register, as required by OMB Circular A-108.

6. Adding a new records retention and disposal schedule approved by the National Archives and Records Administration (NARA).

The system of records is also updated to reflect various administrative changes related to the system managers and system addresses; policy and practices for storage retrieval of the information; administrative, technical, and physical safeguards; and updated notification, records access, and contesting records procedures.

SYSTEM NAME AND NUMBER

FCC/OMD-12, Integrated Library System (ILS) Records.

SECURITY CLASSIFICATION:

Unclassified.

SYSTEM LOCATION:

FCC Library, Office of the Secretary, Office of Managing Director (OMD), 445 12th Street SW, Washington, DC 20554.

SYSTEM MANAGER(S):

Office of the Secretary, Office of Managing Director (OMD), 445 12th Street SW, Washington, DC 20554.

AUTHORITY FOR MAINTENANCE OF THE SYSTEM:

44 U.S.C. 3101 and 47 U.S.C. 154(I).

PURPOSE(S) OF THE SYSTEM:

The information is maintained and used to keep track of items borrowed by registered users from the FCC Library's collection and to ensure that all items are returned to the FCC Library in a timely manner and/or upon a FCC employee's resignation from the Commission.

CATEGORIES OF INDIVIDUALS COVERED BY THE SYSTEM:

Information on current Federal Communications Commission (FCC) employees who have registered as library users.

CATEGORIES OF RECORDS IN THE SYSTEM:

Information in this system includes, but is not limited to records on checked-out and/or checked-in items contained in the FCC Library collection. The records may include, but are not limited to such information as the individual's name, organizational unit, telephone number, room number, building access badge number, library barcode identifier, and position title.

RECORD SOURCE CATEGORIES:

FCC employees who provide contact information in order to checkout materials from the FCC library and the FCC Library collection inventory.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Adjudication and Litigation—To disclose information to the Department of Justice (DOJ) or other administrative or adjudicative bodies before which the FCC is authorized to appear when: (a) The FCC or any component thereof; or (b) any employee of the FCC in his or her official capacity; or (c) any employee of the FCC in his or her individual capacity where the DOJ or the FCC has agreed to represent the employee; or (d) the United States is a party to litigation or has an interest in such litigation, and the use of such records by the DOJ or the FCC is deemed by the FCC to be relevant and necessary to the litigation;

2. Law enforcement and Investigation—To disclose pertinent information to the appropriate Federal, State, and/or local agency responsible for investigating, prosecuting, enforcing, or implementing a statute, rule, regulation, or order, where the FCC becomes aware of an indication of a violation or potential violation of civil or criminal law or regulation.

3. Congressional Inquiries—To provide information to a Congressional office from the record of an individual in response to an inquiry from that Congressional office made at the written request of that individual.

4. Government-wide Program Management and Oversight—To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

5. For Non-Federal Personnel—To disclose information to contractors performing or working on a contract to provide library and/or IT services for the Federal Government who may require access to this system of records.

6. Breach Notification—To disclose information to appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

7. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

8. Recovering Overdue Library Materials—To disclose information to FCC managers or supervisors to facilitate the recovery of books or other lent library materials that are overdue or have been recalled due to an emergency situation.

REPORTING TO A CONSUMER REPORTING AGENCY:

In addition to the routine uses listed above, the Commission may share information from this system of records with a consumer reporting agency regarding an individual who has not paid a valid and overdue debt owed to the Commission, following the procedures set out in the Debt Collection Act, 31 U.S.C. 3711(e).

POLICIES AND PRACTICES FOR STORAGE OF RECORDS:

Records are maintained electronically in the Integrated Library System (ILS) Records database. The database is password protected and updated daily.

POLICIES AND PRACTICES FOR RETRIEVAL OF RECORDS:

Information in this system may be retrieved by the patron's name, bureau/office, office telephone number, room number, barcode number, and position title.

POLICIES AND PRACTICES FOR RETENTION AND DISPOSAL OF RECORDS:

Information in this system is maintained and disposed of in accordance with the Disposition Authority of the National Archives and Records Administration (NARA) General Records Schedule (GRS): 4.4 as follows:

DAA-GRS-2015-0003-0001: Library administrative records—Destroy when 3 years old or 3 years after superseded or obsolete, whichever is applicable. Longer retention is authorized for business use.

DAA-GRS-2015-0003-0002: Library operations records—Destroy when business use ceases. The FCC disposes of the paper documents by shredding. The electronic records, files, and data are destroyed either by physical destruction of the electronic storage media or by erasure of the electronic data.

ADMINISTRATIVE, TECHNICAL, AND PHYSICAL SAFEGUARDS:

The electronic data, records, and files are stored within FCC accreditation boundaries. Access to the electronic files is restricted to OS, library, and IT staff; ILS and IT contractors; and vendors who maintain the networks and services. Other FCC employees, contractors, vendors, and users may be granted access on a “need-to-know” basis. The FCC's data are protected by the FCC and third-party privacy safeguards, a comprehensive and dynamic set of IT safety and security protocols and features that are designed to meet all Federal IT privacy standards, including those required by the Federal Information Security Modernization Act of 2014 (FISMA), the Office of Management and Budget (OMB), and the National Institute of Standards and Technology (NIST).

The ILS staff may print paper copies of the electronic records for various, short-term uses, as necessary. These paper documents (copies) are stored in locked file cabinets in the FCC Library office suite, when not in use. These paper documents are destroyed by shredding when no longer needed.

Access to the electronic records and files and the paper documents, files, and records is restricted to the employees in the Office of the Secretary (OS); employees and contractors in the FCC Library; and IT staff and contractors who maintain the FCC's computer network. Other FCC employees and contractors may be granted access to this information, as required, for specific purposes.

RECORD ACCESS PROCEDURES:

Individuals wishing to request access to and/or amendment of records about them should follow the Notification Procedure below.

CONTESTING RECORD PROCEDURES:

Individuals wishing to request an amendment of records about them should follow the Notification Procedure below.

NOTIFICATION PROCEDURES:

Individuals wishing to determine whether this system of records contains information about them may do so by writing to Leslie F. Smith, Privacy Manager, Information Technology, Federal Communications Commission, 445 12th Street SW, Washington, DC 20554, or email Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (47 CFR part 0, subpart E).

EXEMPTIONS PROMULGATED FOR THE SYSTEM:

None.

HISTORY:

The FCC last gave full notice of this system of records, FCC/OMD-12, Integrated Library System (ILS) Records, by publication in the Federal Register on April 5, 2006 (71 FR 17234, 17255).

Federal Communications Commission.
Marlene Dortch,
Secretary.

[FR Doc. 2019-08760 Filed 4-30-19; 8:45 am]

BILLING CODE 6712-01-P